FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 020208F.

Name: Ghanem Forwarding, LLC.

Address: 2914 North Calvert Street, Baltimore, MD 21218.

Date Revoked: October 28, 2009.

Reason: Failed to maintain a valid bond.

License Number: 004044NF.

Name: Intermar International Inc.

Address: 1882-90 NW 82nd Ave., Miami, FL 33126.

Date Revoked: September 23, 2009 (NVOCC and October 26, 2009 (OFF).

Reason: Failed to maintain valid bonds.

License Number: 003081F.

Name: SMS Express Company, Inc. dba Dyna Freight Inc.

Address: 2415 So. Sequoia Dr., Compton, CA 90220.

Date Revoked: October 29, 2009.

Reason: Failed to maintain a valid bond.

Sandra L. Kusumoto,
Director, Bureau of Certification and Licensing.

[FR Doc. E9-28754 Filed 11-30-09; 8:45 am]

BILLING CODE 6730-01-P